DEPARTMENT OF AGRICULTURE

Rural Housing Service

[Docket No.: RHS-24-MFH-0006]

Notice of Funds Availability (NOFA) for the Multifamily Housing Preservation and Revitalization Demonstration Program (MPR) and for Section 515 Subsequent Loans for Preservation Activities for the Fiscal Year (FY) 2024

AGENCY: Rural Housing Service, United States Department of Agriculture (USDA).

ACTION: Notice of Funds Availability (NOFA).

SUMMARY: The Rural Housing Service (RHS or Agency), a Rural Development (RD) agency of the United States Department of Agriculture, announces that it is inviting applications for the Multifamily Housing Preservation and Revitalization Demonstration Program (MPR) and Section 515 Loan Program. These loan and grant funds will be made available to qualified applicants which may be used to preserve and improve existing Rural Rental Housing (RRH) and Off-Farm Labor Housing (OFF-FLH) projects to extend their affordable use.

DATES: Electronic submissions must be received no later than December 26, 2024, 11:59 p.m. Eastern Time (ET), to be eligible for funding under this Notice. The applicant must send an email message by 12 p.m. ET (noon) on December 16, 2024, to the RHS Production and Preservation Division (see the ADDRESSES section for additional information).

ADDRESSES: All applications made in response to this Notice must be submitted electronically to the RHS Production and Preservation Division, Processing and Report Review (PRR) Branch using the following process: The applicant must send an email message by the date and time provided in the DATES section to the RHS Production and Preservation Division at RD.MPR@usda.gov. The email message must contain the following information:

Subject line: MPR NOFA Submission.

Body of email: Applicant Name, Project State, Project Name, Project City and complete Applicant Contact Information (including address, phone number, email address to receive application submission information).

Request language: Please provide application submission instructions so that we may submit our MPR application documents.

Application submission instructions will be emailed to all interested respondents supplying valid email addresses within two (2) business days from the date the email of interest is received by the Agency.

FOR FURTHER INFORMATION CONTACT: Jonathan Bell, Director, Processing and Report Review Branches, Production and Preservation Division, MFH, RD, USDA, via email: MFHprocessing1@usda.gov or telephone: (202) 205-9217 for additional information on this Notice.

Persons with disabilities that require alternative means of communication for program information (e.g., Braille, large print, audiotape, American Sign Language) may contact the Agency or staff office; or the 711 Relay Service.

SUPPLEMENTARY INFORMATION: Late or incomplete applications will not be eligible for funding under this Notice. Paper applications will not be accepted. Applications that are deemed eligible but are not selected for further processing due to lack of funding will be withdrawn from processing.

Authority

The Consolidated Appropriations Act, 2024, Public Law 118-42, authorized USDA to conduct a demonstration program (i.e., the Multifamily Housing Preservation and Revitalization (MPR) Demonstration Program) for the preservation and revitalization of sections 515 (rural rental housing) (RRH) and 514 and 516 (off-farm labor housing) properties to restructure existing USDA multi-family housing (MFH) loans expressly to ensure the project has sufficient resources to provide safe and affordable housing for low-income residents and farm laborers under the programs authorized by the Housing Act of 1949, as amended (42 U.S.C. 1484, 1485 and 1486). The MPR Demonstration Program is implemented under 7 CFR part 3560 and the requirements set forth in this Notice. Title V of the Housing Act of 1949; 42 U.S.C. 1480; implemented under 7 CFR part 3560 authorizes the Section 515 Direct Loan program. The section 515 RRH direct loan program provides competitive financing for affordable multi-family rental housing for low-income, elderly, or disabled individuals and families in eligible rural areas.

Rural Development Key Priorities

RD will continue to support and promote activities and investments that will achieve the following:

1. Creating More and Better Markets: Assisting rural communities to recover economically through more and better market opportunities through improved infrastructure.

2. Addressing Climate Change and Environmental Justice: Reducing climate pollution and increasing resilience to the impacts of climate change through economic support to rural communities.

3. Advancing Racial Justice, Place-Based Equity, and Opportunity: Ensuring all rural residents have equitable access to RD programs and benefits from RD funded projects.

For further information, visit https://www.rd.usda.gov/priority-points.

Overview

Federal Awarding Agency Name: The Rural Housing Service's (RHS) Multifamily Housing Program (MFH).

Funding Opportunity Title: Notice of Funds Availability (NOFA) for the Multifamily Housing Preservation and Revitalization (MPR) Demonstration Program and Section 515 Rural Rental Housing Subsequent Loans for Preservation Activities for Fiscal Year (FY) 2024.

Announcement Type: Notice of Funds Availability (NOFA).

Assistance Listing:

(1) 10.447—Rural Multifamily Housing Revitalization Demonstration Program (MPR).

(2) 10.415—Section 515 Rural Rental Housing Subsequent Loans

A. Program Descriptions

1. Purpose of the Programs

The MPR Demonstration Program restructures loans and provides additional financing for existing Section 515 Rural Rental Housing (RRH) and Section 514/516 Off-Farm Labor Housing (Off-FLH) projects to help improve and preserve the availability of safe affordable rental housing for low-income residents. The Section 515 RRH Subsequent Loan program provides additional financing for existing Section 515 RRH projects to help improve and preserve the affordability of safe affordable rental housing for low-income residents. MPR and the Section 515 RRH Program are being combined in this Notice to gain efficiencies in the announcement of funding opportunities, application, and selection process, as both programs are eligible preservation resources. Although Section 515 Subsequent Loans, as described under 7 CFR 3560.73 are not required to be awarded under a NOFA, including these funds in this NOFA will enhance program transparency for the public and allow for fair and equitable competition for the resource.

Both programs are designed to address preservation needs in Rural Development's Multifamily Housing portfolio. Funds may be used to address health, safety and accessibility needs and to repair or renovate existing project items identified in the Capital Needs Assessment (CNA). Additional items may be added to the scope of work, if practical and feasible, at the sole discretion of the RHS. Proposals to develop or construct additional units within the existing building envelope, only if needed to comply with accessibility requirements, will be considered and are eligible under this Notice. To be considered for funding, all applicants are required to meet both the general threshold requirements, as well as the program-specific requirements as outlined in this Notice. The CNA Template and CNA Process Addendum are provided at the Multifamily Housing Direct Loans website, click on the “To Apply” tab; https://www.rd.usda.gov/programs-services/multifamily-housing-programs/multifamily-housing-direct-loans#to-apply. Questions regarding the CNA Template and CNA Process Addendum or assistance with accessing the CNA documents should be directed to Jonathan Bell, Director, Processing and Report Review Branches, Production and Preservation Division, MFH, RD, USDA, via email: MFHprocessing1@usda.gov or telephone: (202) 205-9217.

RHS will hold workshops to provide general guidance and assistance regarding this NOFA prior to the application deadline. These workshops will be announced via GovDelivery notice and will also be posted on the MFH Programs website (https://www.rd.usda.gov/programs-services/multi-family-housing-programs). Sign up for GovDelivery notifications by visiting the GovDelivery website (https://public.govdelivery.com/accounts/USDARD/signup/10420). Additional information and guidance outlining applicant, property, and tenant eligibility requirements; factors for scoring and ranking applications and making awards; and any requirements and/or limitations specific to each program application opportunity can be found in this Notice. Prospective applicants are encouraged to read this entire Notice thoroughly and attend the informational workshops for more information and clarification prior to submitting applications for funding.

All applications must follow the applicable Agency regulations in 7 CFR part 3560. The MPR Program and the Section 515 RRH Program are subject to title V of the Housing Act of 1949; 7 CFR part 3560: and the requirements set forth in this Notice.

2. Applicant Eligibility

To be eligible for funding under this NOFA, applicants must meet all statutory and regulatory requirements applicable to the MPR and/or Section 515 RRH program funding. Program regulations may be found at the following link: https://www.rd.usda.gov/page/regulations-and-guidance.

3. Definitions

The definitions applicable to this Notice are published at 7 CFR 3560.11 which can be found on the following website: https://www.ecfr.gov/current/title-7/subtitle-B/chapter-XXXV/part-3560.

4. Application of Awards

Awards under the MPR Demonstration Program and Section 515 RRH Program will be made using the specific selection criteria contained in this Notice.

The Agency will review, evaluate, and score applications received in response to this Notice based on the provisions found in 7 CFR part 3560 (https://www.ecfr.gov/current/title-7/part-3560), and as indicated in this Notice. The Agency advises all interested parties that the applicant bears the full burden in preparing and submitting applications in response to this Notice for this Program in FY 2024.

B. Federal Award Information

Type of Award: Loans and grants (MPR) and loans (Section 515).

Fiscal Year Funds: FY 24 (MPR and Section 515) and carryover funds (MPR).

Available Funds: The Agency will make available the following funds in this NOFA: MPR: $80,491,882 and Section 515: $27,000,000. Available loan and grant funding for the MPR program and Section 515 RRH program for FY 2024 will also be announced via GovDelivery Notice. Sign up for GovDelivery notifications by visiting the GovDelivery website at: https://public.govdelivery.com/accounts/USDARD/signup/10420. Funding amounts will also be posted on the RHS MFH website at: https://www.rd.usda.gov/programs-services/multifamily-housing-programs/multifamily-preservation-and-revitalization-mpr#to-apply. Funding awards will be posted to the RHS website as funding is obligated. RHS reserves the right to post all information submitted as part of the application package that is not protected under the Privacy Act on a public website with free and open access to any member of the public.

Award Amounts: The Agency anticipates a maximum per unit award amount of $60,000 and no minimum award amount. The Agency reserves the right to reduce requested funding amounts based on funding availability.

Supplemental Awards: With the submission of a new application, projects that have previously received Agency funding are eligible to apply for supplemental funding.

Type of Assistance Instrument: Grant Agreement, Direct Loan.

C. Eligibility Information

1. Eligible Applicants

Eligibility for MPR and section 515 funding under this NOFA includes current RD borrowers that have received a loan from the Agency and eligible applicants under 7 CFR part 3560 who are applying to assume ownership and the associated outstanding RD loans on RD-financed MFH properties. Eligible applicants for the MPR and Section 515 programs include individuals, partnerships or limited partnerships, consumer cooperatives, trusts, State or local public agencies, corporations, limited liability companies, non-profit organizations, Indian Tribes, associations, or other entities that own or will be the owner of the project for which an application for transfer of ownership by the Agency is submitted. Applicants must be eligible entities and not currently debarred, suspended, or delinquent on any Federal debt. Agency regulations for the Section 515 MFH program and the Sections 514/516 Farm Labor Housing (FLH) program are published at 7 CFR part 3560.

2. Eligible Projects

Projects must meet at least one of the following requirements to be eligible to receive funding:

(a) All Agency loans on the project will reach mortgage maturity prior to January 1, 2027. If a consolidation of two or more projects into a single project is proposed, all loans on the consolidated project must reach maturity prior to January 1, 2028.

(b) The project has an existing MPR debt deferral that expires prior to January 1, 2028.

(c) The project sustained damage due to a storm, fire, flood, wind, or other man-made or natural disaster and necessary repairs as a result of the damage are incomplete and/or units are uninhabitable due to inadequate insurance proceeds.

(d) The project has been approved under the Agency's Simple Transfer Pilot Program, published in the Federal Register on December 9, 2022 (87 FR 75457), and has an Agency-required rehabilitation plan that lacks full funding.

(e) A purchase and sale agreement has been approved for the project under the Agency's sale to nonprofit process in 7 CFR 3560.659 and the project requires additional funding to complete a transfer of ownership to the new buyer.

(f) Loan(s) on the project were reamortized at the request of the owner to avoid payoff and program exit prior to imminent loan maturity (“reamortization lite”) and the project requires funding to address unmet rehabilitation needs.

(g) Repairs or modifications are needed to address health and safety findings or violations and/or accessibility modifications identified in the property's Capital Needs Assessment (CNA) submitted with the application. The combined amount of the health, safety, and accessibility repairs or modifications identified in the CNA must exceed an average cost of $4,000 per unit to meet the project eligibility criteria.

3. Threshold Eligibility Requirements

All applications must meet all threshold eligibility requirements as follows:

(a) Applications must be complete as specified by this Notice;

(b) Applications must be submitted electronically;

(c) Complete applications must be received by 12 p.m., Eastern Time December 26, 2024;

4. Determination of Initial Eligibility

The determination of initial eligibility for any application will be determined as of the application submission deadline date. The RHS reserves the right to discontinue the processing of any application due to material changes in the applicant's status occurring any time after the initial eligibility determination.

D. Program Funding

1. Cost Sharing or Matching

There are no cost sharing or matching requirements to receive program funding.

2. Funding Priority for Areas of Persistent Poverty

To focus investments in areas where the need for increased prosperity is greatest, RHS will set aside 10 percent of the available funds for applications that will serve persistent poverty counties. The term “persistent poverty counties” means any county that has had 20 percent or more of its population living in poverty over the last 30 years, using the 2020 Decennial Census data and the 2017-2021 American Community Survey five-year average), or any territory or possession of the United States. Information on which counties are considered persistent poverty counties can be found through using the following link: https://ruraldevelopment.maps.arcgis.com/apps/webappviewer/index.html?id=a0bcd25194434ac784493fd5dc7f8191.

3. Funding Priority for REAP Zones

To address issues of geographic isolation of communities separated by long distances, absence of large metropolitan centers, low-density settlement patterns, historic dependence on agriculture, continued population loss, outmigration, and economic upheaval or economic distress, the Agency will provide a set aside under this announcement for applications in Rural Economic Area Partnership (REAP) Zones. REAP Zones locations are as follows:

Zone | State | Counties
CONAC | ND | McHenry, Bottineau, Rolette, Towner, Pierce and Benson; and the Indian reservations of the Turtle Mountain Chippewa and Spirit Lake Sioux.
Southwest | ND | Dunn, Stark, Hettinger, Adams, Bowman, Slope, Golden Valley, Billings, and part of the Fort Berthold Indian Reservation.
Sullivan-Wawarsing | NY | Sullivan and the Town of Wawarsing.
Tioga | NY | Tioga.
Northeast Kingdom | VT | Caledonia, Essex, Orleans.

4. Geographic Distribution of Funding

The Agency has an interest in supporting a broad geographic distribution of program funds. Projects will be scored without regard to State location. However, if five projects in a State have received program funding obligations, no further obligations will be made to projects in that State until a funding decision has been made on all projects that have met the minimum scoring requirements as described in the Scoring section of this Notice. When all other funding decisions have been made, the Agency may provide additional awards in States that have already received five awards. Projects located on tribal lands will not count against the five-project State limit.

E. Additional Program Requirements

1. Loan Requirements

Each loan made by the Agency will be secured in a manner that adequately protects the financial interest of the Federal Government throughout the period of the loan in accordance with 7 CFR 3560.61. The Agency will not make any loans without adequate security. The following limitations will be set on loan amounts:

(a) For all loan applicants who will receive benefits from the low-income housing tax credit (LIHTC) program, the amount of Agency financing for the housing will not exceed 95 percent of the security value available for the Agency loan.

(b) For all loan applicants who will not receive LIHTC benefits and who are comprised solely of nonprofit organizations, consumer cooperatives, or State or local public agencies, the amount of the loan will be limited to the security value available for the Agency loan, plus the 2 percent initial operating capital and any necessary relocation costs incurred.

(c) For all other loan applicants who will not receive LIHTC benefits, the loan amount will be limited to no more than 97 percent of the security value available for the Agency loan.

2. Equity Contribution Requirements

Loan applicants, with the exception of nonprofit organizations, consumer cooperatives, or State or local public agencies who will not be receiving LIHTC benefits, must make an equity contribution from their own resources as follows:

(a) Loan applicants who will receive LIHTC benefits must make an equity contribution in the amount of 5 percent of the Agency loan. The maximum Agency loan will be determined in accordance with 7 CFR 3560.63(c).

(b) Loan applicants who will not receive LIHTC benefits and are not nonprofit organizations, consumer cooperatives, or state or local public agencies must make an equity contribution in the amount of 3 percent of the Agency loan. The maximum Agency loan will be determined in accordance with 7 CFR 3560.63(c).

3. Grant Requirements

Grant awards are subject to the requirements outlined in 2 CFR parts 200 and 400.

4. Security Requirements

The total of all liens against the project, with the exception of Agency deferred debt, cannot exceed the Agency-approved security value of the project, except as permitted by 7 CFR 3560.63(b)(2). All Agency debt, either in first lien position or in a subordinated lien position, must be secured by the project, except deferred debt, which is not included in the Agency's total lien position for computation of the Agency's security value in the MPR program. Payment of any deferred debt will not be required from normal project operations income during the term of the debt deferral. Upon expiration of the deferral, if no further deferral is approved, the remaining balance will be reamortized.

5. Transfers, Consolidations and Portfolios

Transfers and consolidations may be approved as part of the transaction for the selected applicants in accordance with 7 CFR part 3560 and the following:

(a) If a transfer is part of the transaction, and the transfer includes a seller payment and/or an increase in the allowable Return to Owner (RTO), the transfer must first be underwritten to meet the requirements of 7 CFR 3560.406 to establish the maximum RTO amount RD will recognize for the buyer and seller before the transaction is underwritten.

(b) If a consolidation of existing properties is simultaneously proposed, all projects being consolidated must be submitted in one application that identifies each project. Each property in the proposed consolidated project must be located in the same market area. Market area is defined in 7 CFR 3560.11 as the geographic or locational delineation for a specific project, including outlying areas that will be impacted by the project including the area in which alternative, similar properties effectively compete with the subject property.

(c) Applicants should discuss proposed consolidations with the assigned Servicing Specialist prior to filing their application under this NOFA. RD may permit two or more properties to be consolidated as defined in 7 CFR 3560.410 when it is in the best interests of the Government. The applicant should consult with the RD loan official before engaging the CNA Provider in any case where the CNA intends to encompass more than a single existing RD property to determine if a consolidated CNA may be acceptable for RD underwriting.

(d) If the preservation proposal involves a portfolio transaction (sale or stay-in owner), a separate application for each project in the portfolio is required and each application must identify all projects included in the portfolio transaction. Eligibility determinations will be conducted on each application associated with the portfolio.

6. Occupancy Standards

(a) For Section 515 RRH projects, the average physical vacancy rate for the 12 months preceding this Notice's application submission date can be no more than 10 percent for projects consisting of 16 or more revenue units and no more than 15 percent for projects less than 16 revenue units. If the average physical vacancy rate exceeds those limits, the applicant must provide current market data (defined as no more than 6 months old at time of filing) that demonstrates there is a need for the project evidenced by waiting lists and a housing shortage confirmed by local housing agencies and realtors. The data demonstrating a need and housing shortage must be accepted by the Agency. The market data must show a clear need and demand for the project once the transaction is completed. The results of the survey of existing or proposed rental or labor housing, including complex name, location, number of units, bedroom mix, family or elderly type, year built, and rent charges, must be provided, as well as the existing vacancy rate of all available rental units in the community, their waiting lists and amenities, and the availability of Rental Assistance (RA) or other subsidies. The Agency will determine if the proposal has market feasibility based on the data provided by the applicant. Any costs associated with compiling the market data is NOT an eligible program project expense. If the information provided by the applicant is inadequate, the Agency may require additional information, which may include a current market study, to assess the need of the project and its continued financial feasibility. If a project consolidation is involved, the consolidation will remain eligible so long as the average vacancy rate for each individual project meets the occupancy standard noted in this paragraph. Any individual project submitted as a portfolio application that does not continue to meet the occupancy threshold, regardless of reason, may be withdrawn by the owner or the Agency without jeopardizing the formal portfolio application so long as the application continues to meet the eligibility conditions otherwise described in this Notice.

(b) For Sections 514/516 FLH projects, rather than an average physical vacancy rate, a positive cash flow for the previous full three (3) years of operation is required unless the applicant has an Agency approved workout agreement and is in compliance with the provisions of the workout agreement for a minimum of six (6) consecutive months.

7. Funding Restrictions

Funds under this NOFA cannot be used to add additional housing units, build community rooms, or add additional parking areas, playgrounds, or laundry rooms unless these improvements are needed to address accessibility requirements.

F. Available Funding Tools

Applicants must propose a funding plan for the project and request specific tools as part of the funding plan. For loans, the applicant must specify the type of loan requested and the amount of funding requested. For grants, the applicant must specify the amount of funding requested. For debt deferrals, the applicants must specify all loans requested for deferral and provide an estimate of the current outstanding loan balance.

(1) Debt deferral: Deferral of loan principal and interest payments for up to 20 years for presently outstanding Section 514 or Section 515 loans. The applicant's proposal should describe how the cash flow from the deferred RD direct loan principal and interest payments will be deposited to the project's reserve account and/or used to help meet the project's future physical needs, support new debt, reduce rents, or otherwise be directed to be in the best interests of the tenants and Government.

(a) If an applicant requests a debt deferral and the term of any existing Section 514 or Section 515 loans is less than 20 years, the Agency requires a re-amortization of the existing loans and extending the term up to 20 years.

(b) All terms and conditions of the deferral will be described in the MPR Debt Deferral Agreement. A balloon payment of principal and accrued interest (deferral balloon) will be due at the end of the deferral period, or upon default pursuant to the terms contained therein. Interest will accrue at the promissory note rate and, if applicable, the subsidy will be applied as set out in the Agency's “Multiple Family Housing Interest Credit Agreement,” Form RD 3560-9.

(c) At the time of the deferral balloon, borrowers may request any available servicing tools to preserve any needed projects as affordable rental housing.

(2) MPR Grant. Grant funding is limited to non-profit or public housing agency applicants/borrowers only. The grant use will be limited to the cost of correcting health and safety violations of a project, including accessibility requirements identified by a CNA accepted by the Agency.

(3) MPR Zero Percent Loan. An amortizing loan offered at zero percent interest. This loan is not deferred. Monthly payments are required for the maximum term and the amortization period will be as authorized by the respective program authority.

(a) For Section 515 RRH projects, the maximum loan term is 30 years amortized over a maximum term of 50 years.

(b) For Sections 514/516 projects, the loan will be amortized over a maximum term of the loan which is 33 years.

(4) MPR Soft-Second Loan. A loan with a one percent interest rate that will have its accrued interest and principal deferred to a balloon payment. The balloon payment will be due at the same time as the latest modified Section 514 or Section 515 maturity date of any current loan being reamortized.

(5) MPR or Section 515 Direct Loan. An amortizing loan with a one percent effective interest rate. This loan is not deferred. Monthly payments are required for the maximum term and amortization period will be as authorized by the respective program authority:

(a) For Section 515 RRH projects, the maximum loan term is 30 years amortized over a maximum term of 50 years.

(b) For Sections 514/516 projects, the loan will be amortized over a maximum term of the loan which is 33 years.

Funding tools are only for authorized purposes in the respective RRH and FLH programs in accordance with 7 CFR part 3560. The program will be administered within the resources available to the Agency through Public Law 118-42.

(6) Other Possible Sources of Funds (not all-inclusive):

(a) RD Section 538 Guaranteed RRH (GRRH) loan. The current Federal Register Notification for the Section 538 Program is available at 88 FR 26221 (April 28, 2023) (https://www.govinfo.gov/content/pkg/FR-2023-04-28/pdf/2023-08952.pdf);

(b) Third-party loans, grants, tax credits and tax-exempt financing;

(c) Owner-provided capital contributions in the form of a cash infusion. A cash infusion cannot be a loan.

G. Application Information

Respondents to this Notice must submit complete final applications by the application submission deadline as specified in the DATES section and this section of this Notice. Expenses incurred in developing applications will be at the applicant's sole risk.

All applications made in response to this Notice must be submitted electronically to the RHS Production and Preservation Division, Processing and Report Review (PRR) Branch using the process outlined in the ADDRESSES section above.

Applicants are encouraged to include a checklist of all the application requirements and to index and tab their application to facilitate the review process. The applicant should provide a Table of Contents of all of the documents that have been submitted. Last-minute requests and submissions may not allow adequate time for the submission process to take place prior to the deadline.

Note: Applicants are reminded that all submissions must be received by the deadline and the application will be rejected if it is not received by the deadline date and time, regardless of when the application was submitted.

(1) Application Requirements. The application must contain the following:

(a) An executed and dated Executive Summary on the applicant's letterhead that must include at least the following:

i. Brief description of the project and its history. Include the borrower's name, project name, project location, number of units, number of RA or Operating Assistance (OA) units and unit mix. For FLH projects, address whether the project operates year-round or on a seasonal basis. Provide the year the property was built and placed into service, the original sources of funding, and the original amounts of funding received. Include a description of any significant improvements, repairs, or modifications that have been made since the property was placed in service, which would include substantial rehabilitations and significant repairs that were needed due to natural disasters. Provide any other information that you may want to disclose regarding the project and its history.

ii. Brief description of the proposed transaction. Provide a narrative of the loan and/or grant funds that the applicant is seeking from the RHS, or any other third-party source, and a description of what the funds will be utilized for. Describe the scope of work and explain how the transaction will come together overall, including information on how the project will absorb any additional debt service, if applicable.

iii. Description of the current ownership structure with a detailed organizational chart. If a transfer of ownership is proposed as part of the transaction, include the proposed ownership structure with a detailed organization chart.

iv. Narrative verifying the applicant's ability to meet the applicant eligibility requirements stated earlier in this Notice.

v. A statement of the applicant's experience in operating affordable rental housing, labor housing or other rental housing.

vi. Description of the applicant's legal and financial capability to carry out the obligation and purpose of the loan and/or grant.

vii. Current management. A brief description of how the property is currently managed. If a change in management is proposed as part of the transaction, provide a brief description of the proposed plan to manage the property. As stated earlier in this Notice, the housing must be managed in accordance with the management regulations, 7 CFR part 3560.

viii. Any financial commitments, financial concessions, or other economic benefits proposed to be provided by the RHS.

ix. Third-party funding sources, if applicable. For each third-party funding source, briefly discuss the provider, amount, including terms, commitment status, timing issues, any restrictions that will be applicable to the project, and whether any accommodation from the RHS is proposed, such as a subordination in lien position. The desired lien position of any third-party funding source must be clearly disclosed, as well as any proposal for the RHS to subordinate its lien position.

x. Any proposed compensation to parties having an identity of interest (IOI) with either the consultant or technical assistance provider. An IOI is defined in 7 CFR 3560.11

xi. Any proposed construction financing, for example, a construction or bridge loan or the use of multiple advances.

xii. Type and method of construction, such as negotiated bid or contractor method.

xiii. Signed statement by the applicant that they will pay any cost overruns in accordance with 7 CFR 3560.63(f).

xiv. Estimated development timeline to include estimated start and end date, as well as any other important milestones such as the proposed closing date.

xv. Description of any required state or local approvals and how they will be obtained.

xvi. Description of the required and intended applicant contribution, if applicable.

xvii. Any other pertinent information the applicant wishes to disclose as part of this proposal.

xviii. A separate one-page information sheet listing each of the application scoring criteria contained in this Notice, followed by a reference to the page numbers of all relevant material and documentation contained in the proposal that supports the outlined criteria.

(b) The following forms and certifications are required:

i. Form RD 3560-1, “Application for Partial Release, Subordination, or Consent,” can be obtained at: https://formsadmin.sc.egov.usda.gov//efcommon/eFileServices/eFormsAdmin/RD3560-0001.pdf.

ii. Standard Form 424, “Application for Federal Assistance,” can be obtained at: https://www.grants.gov/.

iii. Form RD 3560-30, “Certification of no Identity of Interest (IOI),” can be found at: https://forms.sc.egov.usda.gov/efcommon/eFileServices/eForms/RD3560-30.PDF. OR

iv. Form RD 3560-31, “Identity of Interest Disclosure/Qualification Certification,” can be found at: https://forms.sc.egov.usda.gov/efcommon/eFileServices/eForms/RD3560-31.PDF. An IOI is defined in 7 CFR 3560.11. The RHS must review Form RD 3560-30 and Form RD 3560-31, as applicable, to determine if they are completed in accordance with the Forms Manual Insert and to determine that all IOI's have been disclosed.

v. Form HUD 2530, “Previous Participation Certification,” if applicable, can be found at: https://www.hud.gov/sites/dfiles/OCHCO/documents/2530.pdf.

vi. Form RD 400-4, “Assurance Agreement,” can be found at: https://forms.sc.egov.usda.gov/efcommon/eFileServices/eForms/RD400-4.PDF.

vii. RD Instruction 1940-Q, Exhibit A-1, “Certification for contracts, grants and loans,” can be found at: https://www.rd.usda.gov/files/1940q.pdf.

viii. Form RD 1910-11, “Applicant Certification, Federal Collection Policies for Consumer or Commercial Debts,” can be found at: https://forms.sc.egov.usda.gov//efcommon/eFileServices/eForms/RD1910-11.PDF.

ix. Form RD 400-1, “Equal Opportunity Agreement,” can be found at: https://www.rd.usda.gov/files/UEP_RD_From_400-1.pdf.

x. Form RD 400-6, “Compliance Statement,” if applicable can be found at: https://www.rd.usda.gov/files/RD400-6.PDF.

xi. For projects that have five or more rental units, an Affirmative Fair Housing Marketing Plan (AFHMP) as defined in 24 CFR part 200, subpart M.

(c) Provide the following financial and organizational information:

i. Current (within 6 months of this Notice's application submission due date) financial statements for each entity within the ownership structure with the following paragraph certified by the applicant's designated and legally authorized signer:

“I/we certify the above is a true and accurate reflection of our financial condition as of the date stated herein. This statement is given for the purpose of inducing the United States of America to make a loan or to enable the United States of America to make a determination of continued eligibility of the applicant for a loan as requested in the loan application of which this statement is a part.”

ii. Submit a current (within 6 months of this Notice's application submission due date) comprehensive credit report for both the entity and the actual individual principals, partners and members within the applicant entity, including any sub-entities who are responsible for controlling the ownership and operations of the entity. If any of the principals in the applicant entity are not natural persons (e.g., corporations, other limited liability companies, trusts), separate commercial credit reports must be submitted on those organizations as well. Individual personal consumer credit reports are not required if a combination report is being provided. Only credit reports provided by accredited major credit bureaus will be accepted (Experian, Equifax or TransUnion). If the credit report(s) is not submitted by the application deadline, the application will be considered incomplete and will not be considered for funding.

iii. Letter from the IRS indicating the applicant's tax identification number.

iv. Individual applicants and principals of organizational applicants must provide to their attorney acceptable evidence of U.S. citizenship and/or qualified alien status. Acceptable evidence of U.S. citizenship may include a valid U.S. birth certificate, a valid U.S. Passport, a valid U.S. Certificate of Naturalization, or other acceptable evidence of U.S. citizenship proposed by the applicant and accepted by the Agency. Acceptable evidence of qualified alien status may include valid documentation issued by the U.S. Citizenship and Immigration Services (USCIS), or other acceptable documentation of qualified alien status proposed by the applicant and accepted by the Agency.

Attorney Certification. The applicant's attorney must review all applicable evidence to verify U.S. citizenship and/or qualified alien status, must certify that the Agency's U.S. citizenship and/or qualified alien status eligibility requirements are met by all applicants, and must submit the certification for Agency review with the application.

v. Documentation verifying the applicant is registered in the System for Award Management (SAM) and the applicant's Unique Entity Identifier (UEI) number (unless exempt under 2 CFR 25.110(b), (c), or (d)).

vi. For applicants that are limited partnerships, a current and fully executed limited partnership agreement and certificates of limited partners.

vii. For applicants that are limited liability corporations, evidence of organization under State and local law and a copy of the applicant's Articles of Organization and Operating Agreement.

viii. If a nonprofit organization:

a. Tax-exempt ruling from the Internal Revenue Service designating them as a 501(c)(3) or 501(c)(4) organization.

b. Purpose statement, including the provision of low-income housing.

c. Evidence of organization under state and local law and a copy of the applicant's charter, Articles of Incorporation, and By-laws.

d. List of Board of Directors including names, occupations, phone numbers, and addresses.

e. If a member or subsidiary of another organization, the organization's name, address, and nature of business.

ix. For entity applicants, a Certificate of Good Standing.

x. Attorney Certification. Letter from the applicant's attorney certifying the legal sufficiency of the organizational documents. The attorney must certify:

a. The applicant's legal capacity to successfully operate the proposed project for the life of the loan and/or grant.

b. For entity applicants, that the organizational documents comply with applicable RHS regulations.

c. For partnership or limited partnership applicants, that the term of the partnership extends at least through the latest maturity of all proposed RHS debt.

d. For entity applicants, that the organizational documents require prior written RHS approval for any of the following: withdrawal of a general partner from a partnership or any member from an LLC, admission of a general partner to a partnership or any member to an LLC, amending the organizational documents, and selling all or substantially all of the assets of the applicant.

e. For current RHS borrowers, that there have been no changes to either the ownership entity or the property that have not been approved by the RHS.

(d) Provide the following information about the Project:

i. Document the need for the project. The applicant must provide documentation that the average physical vacancy rate for the twelve (12) months preceding this Notice's application submission due date has been no more than ten (10) percent for projects consisting of sixteen (16) or more revenue units, and no more than fifteen (15) percent for projects with less than sixteen (16) revenue units, unless the project is seasonal Off-FLH, or unless the applicant has an RHS approved workout plan and is in compliance with the provisions of the workout plan, and provides documentation that clearly demonstrates to the RHS that sufficient market demand exists. If the project is seasonal Off-FLH, the applicant must provide detailed documentation for the twenty-four (24) months preceding this Notice's application submission due date that verifies the project's operations, including information regarding the open and close date, lease-up, vacancy, rent rolls, waiting lists, operating budgets, and any other information the applicant wants to provide to document the need for the seasonal Off-FLH project.

If the project does not meet the vacancy requirements above, a description of the cause of the vacancy rate and the plan to increase the occupancy rate must be submitted. The requested loan or grant funds must be needed to stabilize occupancy. In addition, if the project does not meet the vacancy requirements above, the project's waiting list and documentation regarding the market area must be submitted to support the need for the project. The market area must be clearly identified and may include only the area from which tenants can reasonably be drawn to the project. For Off-Farm projects that do not meet the vacancy requirements above, documentation must be provided to justify the need within the primary market area for the housing of domestic farm laborers. The documentation must also consider disabled and retired farm workers and adjusted median incomes of very-low, low, and moderate.

ii. Documentation that the project has a positive cash flow. The applicant must provide documentation that the project had a positive cash flow for the previous full three (3) years of operations preceding this Notice's application submission due date. An exception applies for projects with an RHS approved workout plan wherein the applicant is in compliance with the provisions of the workout plan for a minimum of six consecutive months before becoming eligible for a loan and/or grant under this Notice. Additionally, an exception will apply to projects that have a negative cash flow in operations if surplus cash exists in either the general operating account as defined in 7 CFR 3560.306(d)(1) or the reserve account. Surplus cash exists when the balance is greater than the required deposits minus authorized withdrawals. The applicant must provide the project's annual financial report(s) to document the project complies with this exception for each year the project has a negative cash flow, if applicable. Seasonal Off-FLH properties that receive Operating Assistance (OA) are exempt from this requirement.

(e) Provide the following construction related documents:

i. Plans and specifications along with the proposed manner of construction. The housing must meet RHS's design and construction standards contained in 7 CFR part 1924, subparts A and C, and must also meet all applicable Federal, State, and local accessibility standards and current codes. The plans and specifications along with the proposed manner of construction must be submitted prior to the approval of the application. The RHS will notify eligible applicants of the deadline to submit these materials. Also, applications for Off-FLH loans and grants must meet the design requirements in 7 CFR 3560.559.

ii. Construction planning, bidding, and contract documents, including the construction contract and architectural agreement. The construction planning, bidding, and contract documents, including the construction contract and architectural agreement, must be submitted prior to the approval of the application. The RHS will notify eligible applicants of the deadline to submit these materials.

iii. For Off-FLH projects that do not currently have interior/exterior washing facilities, applicants should consider incorporating interior/exterior washing facilities for tenants, as necessary to protect the asset and the tenants from excess dirt and chemical exposure. Such facilities might include a boot washing station or hose bibs, among others.

iv. The applicant must submit a checklist, certification, and signed affidavit by the project architect or engineer, as applicable, for any energy programs in which the applicant intends to participate.

v. An estimate of development costs utilizing Form RD 1924-13, “Estimate and Certificate of Actual Cost,” which can be found at: https://forms.sc.egov.usda.gov/efcommon/eFileServices/eForms/RD1924-13.PDF.

(f) Provide the following project financing information:

i. A Sources and Uses Statement which shows all sources of funding included in the proposed transaction. The terms and schedules of all sources included in the project should be included in the Sources and Uses Statement. (Note: A Section 516 grant may not exceed 90 percent of the total development cost (TDC) of the transaction.)

ii. All applications that propose the use of any grant, leveraged funds, or similar funding source must submit firm commitment letters with their application, if available. Applicants dependent upon third-party funding, including but not limited to local, State, and Federal resources through competitive and noncompetitive application rounds, must obtain and submit to the Agency a satisfactory commitment of those funds, as determined by the Agency, upon receipt, but no later than the twelve-month time frame, as specified in the award commitment. An extension of the award commitment of up to six months may be given, at the sole discretion of the Agency, and will be based on project viability, current program demand, and availability of program funds. Applicants unable to satisfy this condition of the award commitment will be subject to having the award rescinded and will be required to reapply in future funding announcements.

iii. Description of how the applicant will meet the applicable equity contribution requirement.

(g) Provide the following environmental information:

i. Environmental information in accordance with the requirements of 7 CFR part 1970. The applicant is responsible for preparing and submitting the environmental review document in accordance with the format and standards provided by RHS in 7 CFR part 1970. Applicants may employ a design or environmental professional or technical service provider to assist them in the preparation of their environmental review documents at their own expense.

ii. Evidence of the submission of the project description to the applicable State Housing Preservation Office (SHPO), and/or Tribal Historic Preservation Officer (THPO) with the request for comments, if applicable. A letter from the SHPO and/or THPO where the project is located, signed by their designee, will serve as evidence of compliance.

iii. Intergovernmental review. Evidence of compliance with Executive Order 12372. Information is available on the USDA website at: https://www.usda.gov/ocfo/federal-financial-assistance-policy/intergovernmental-review. The applicant must initiate the intergovernmental review by submitting the required information to the applicable State Clearinghouse. The applicant must provide documentation that the intergovernmental review process was completed. The applicant must also submit any comments that were received as part of this review to the agency. If no comments are received, the applicant must provide documentation that the review was properly initiated and that the required comment period has expired. Applications from Federally recognized Indian Tribes are not subject to this requirement.

(h) Provide the following budget and project management information:

i. A proposed post-transaction operating budget utilizing Form RD 3560-7, “Multiple Family Housing Project Budget/Utility Allowance”. Form can be found at: https://forms.sc.egov.usda.gov/efcommon/eFileServices/eForms/RD3560-7.PDF. The budget must include the debt service of the new RHS loan(s), if applicable. This will be a post transaction budget that must include a narrative which provides justification for any changes between the current budget and proposed budget.

The RHS will review the budget to determine that the income and expenses are reasonable and customary for the area. The RHS will also verify that the budget reflects the new RHS loan debt service, if applicable, the existing RHS loan debt service, the number of units, unit mix, and rents. Overall, the RHS must review the budget for feasibility, accuracy, and reasonableness.

ii. Form RD 3560-13, “Multifamily Project Borrower's/Management Agent's Management Certification,” can be found at: https://forms.sc.egov.usda.gov//efcommon/eFileServices/eForms/RD3560-13.PDF. This document is required only if the owner is changing the management agent or the management fee as part of this proposal.

iii. Management plan with all attachments, including the proposed record keeping system, the proposed lease with an attorney's certification and the proposed occupancy rules. This document is required only if the owner is changing the management agent or revising the management plan and any attachments as part of this proposal.

iv. Management Agreement. This document is only required if the owner is changing the management agent or revising the management agreement and any attachments as part of this proposal.

v. Tenant relocation plan, if applicable. Loans and/or grants that are made for major repair may require the temporary relocation of tenants while the project is undergoing work. The applicant must provide a plan and financial assistance for relocation of displaced persons from a site on which a project will be located.

(i) Provide the following third-party reports:

i. Acceptable appraisal. Appraisals may be conditioned but will be required prior to closing. For Off-Farm projects, please refer to the Agency's appraisal assignment guidance under the “To Apply” tab on the Off-Farm Labor Housing Direct Loans & Grants website (https://www.rd.usda.gov/programs-services/multifamily-housing-programs/farm-labor-housing-direct-loans-grants#to-apply). For this funding type, applicants should use the appraisal assignment guidance named “MFH_514_516_Off Farm_Rehabilitation Only_Appraisal Assignment Guidance” or “MFH_514_516_Off Farm_Transfer and Rehabilitation_Appraisal Assignment Guidance,” as applicable.

For Section 515 projects, please refer to the Agency's appraisal assignment guidance under the “To Apply” tab on the Multifamily Preservation and Revitalization (MPR) website (https://www.rd.usda.gov/programs-services/multifamily-housing-programs/multifamily-preservation-and-revitalization-mpr#to-apply). For this funding type, applicants should use the appraisal assignment guidance named “MFH_515_Rehabilitation_Appraisal Assignment Guidance” or “MFH_515_Transfer and Rehabilitation_Appraisal Assignment Guidance,” as applicable.

Project funds may be used to obtain the appraisal if there are adequate funds available and the request to use project funds is approved by the Field Operations Division servicing official.

No appraisal is required for subsequent Section 516 Off-FLH grant only requests.

ii. An acceptable As-Is CNA in accordance with the requirements set forth in the CNA Template and CNA Process Addendum provided at https://www.rd.usda.gov/programs-services/multifamily-housing-programs/multifamily-housing-direct-loans#to-apply.

Project funds may be used to obtain the As-Is CNA if there are adequate funds available and the request to use project funds is approved by the Field Operations Division servicing official. The repair plan should be developed in accordance with the CNA and the applicant should submit documentation of the detailed plan and timeline for completion of the repair work.

If any of the required items listed above, with the exception of the appraisal, are not submitted within the application in accordance with this Notice, or are incomplete, the application will be considered incomplete and will not be considered for funding. An acceptable appraisal will be required as a condition of funding but may be submitted prior to closing to minimize upfront third-party report costs for applicants. If the application is incomplete or deemed ineligible, the applicant will be notified of any applicable appeal rights under 7 CFR part 11. Applications that are deemed eligible but are not selected for further processing due to a lack of funding will be withdrawn from processing and will be encouraged to apply to future Notices. This action is not appealable.

The RHS will not consider information from the applicant after the application deadline, expect as expressly specified in this Notice. The RHS may contact the applicant to clarify other items in its application. The RHS will uniformly notify applicants of each curable deficiency. A curable deficiency is an error or oversight that if corrected it would not alter, in a positive or negative fashion, the review and rating of the application. An example of a curable (correctable) deficiency would be inconsistencies in the amount of the funding request. Non-curable deficiencies are threshold components that effect the review and rating of the application, including but not limited to, evidence of an eligible entity and evidence of the need for the project.

Each application must address the applicable scoring criteria presented in this Notice for the type of funding being requested.

(2) System for Award Management and Unique Entity Identifier. The System for Award Management (SAM) is the Official U.S. Government system for collection of forms for acceptance of a Federal award through the registration or annual recertification process. On April 4, 2022, the unique entity identifier used across the Federal Government changed from the Data Universal Numbering System (DUNS) Number to the Unique Entity ID (UEI) (generated by SAM.gov).

All program applicants, unless exempt under 2 CFR 25.110(b), (c), or (d), are required to:

i. Be registered in System Award Management (SAM) before submitting their applications;

ii. Provide a valid Unique Entity ID (UEI) in their applications; and

iii. Continue to maintain an active SAM registration with current information at all times during which they have an active Federal award or an application or plan under consideration by a Federal awarding agency.

The Federal awarding agency may not make a Federal award to an applicant until the applicant has complied with all applicable SAM requirements and, if an applicant has not fully complied with the requirements by the time the Federal awarding agency is ready to make a Federal award, the Federal awarding agency may determine that the applicant is not qualified to receive a Federal award and use that determination as a basis for making a Federal award to another applicant. SAM is the Official U.S. Government system for collection of forms for acceptance of a Federal award through the registration or annual recertification process. Applicants may register for SAM at https://www.sam.gov or by calling 1-866-606-8220. The applicant must ensure that the information in the database is current, accurate, and complete. On April 4, 2022, the unique entity identifier used across the Federal Government changed from the DUNS Number to the UEI (generated by SAM.gov). As required by the Office of Management and Budget (OMB), all applications must provide a UEI number when applying for Federal assistance. Instructions for obtaining the UEI are available at https://sam.gov/content/entity-registration. Applicants must ensure they complete the Financial Assistance General Certifications and Representations in SAM. Similarly, all recipients of Federal financial assistance are required to report information about first-tier subawards and executive compensation in accordance with 2 CFR part 170. So long as an entity applicant does not have an exception under 2 CFR 170.110(b), the applicant must have the necessary processes and systems in place to comply with the reporting requirements should the applicant receive funding. See 2 CFR 170.200(b).

Additional information concerning these requirements can be obtained on the Grants.gov website at https://www.grants.gov. The applicant must provide documentation that they are registered in SAM and their UEI number or the application will not be considered for funding. The following forms for acceptance of a Federal award are now collected through the registration or annual recertification in SAM.gov in the Financial Assistance General Certifications and Representations section:

• Form AD-1047, “Certification Regarding Debarment, Suspension, and Other Responsibility Matters-Primary Covered Transactions.”

• Form AD-1048, “Certification Regarding Debarment, Suspension, Ineligibility and Voluntary Exclusion. Lower Tier Covered Transactions.”

• Form AD-1049, “Certification Regarding Drug-Free Workplace Requirements (Grants).”

• Form AD-3031, “Assurance Regarding Felony Conviction or Tax Delinquent Status for Corporate Applicants.”

• Form AD-3030, “Representations Regarding Felony Conviction and Tax Delinquent Status for Corporate Applicants.”

(e) The Agency will not make an award until the applicant has complied with all SAM requirements including providing the UEI. If an applicant has not fully complied with the requirements by the time the Agency is ready to make an award, the Agency may determine that the applicant is not qualified to receive a Federal award and use that determination as a basis for making a Federal award to another applicant.

H. Submission Information

The Agency will not solicit, accept, or consider new scoring or eligibility information that is submitted after the application deadline. RHS reserves the right to ask applicants for clarifying information and additional verification of assertions in the application. All required application documents in accordance with this Notice must be submitted on or before 12 p.m. (ET) December 26, 2024. Please refer to the DATES section of this Notice for details.

Last-minute requests and submissions may not allow adequate time for the submission process to take place prior to the application deadline. Applications will be rejected if not received by the deadline date and time, regardless of when submitted. The Agency is not liable for technical issues or system-related difficulties that affect an applicant's ability to submit applications in a timely fashion in accordance with the instructions of this NOFA. Application submissions must meet all the requirements of this Notice. No application will be accepted after the deadline unless the date and time is extended by another Notice published in the Federal Register. Incomplete applications and applications submitted after the deadline will be rejected without being scored.

Applicants are encouraged to include a checklist of all the application requirements and to index and tab their application to facilitate the review process:

☐ Table of Contents citing all documents submitted;

☐ Checklist of Application Requirements indexed in order; and

☐ Application Scoring Criteria Sheet listing each of the scoring criteria contained in the Program Notice, followed by page number references for all supporting materials and documentation contained in the application package.

I. Application Review Process

The Agency will determine if applications meet the following criteria:

• The application was received by the submission deadline;

• The application is complete as specified in the NOFA;

• The application is for an authorized purpose; and

• The applicant meets Agency eligibility requirements.

Applicants that are rejected by the Agency because they do not meet the criteria above will not be scored or ranked. Only applications meeting the above criteria will be scored and ranked. RHS will use the scoring and ranking factors outlined in this Notice for MPR and Section 515 RRH application(s).

After the Agency's initial assessment is complete, the Agency will score and rank complete and eligible application(s) as outlined in this Notice. The Agency will process the applications in order of their ranking (from highest score to lowest score) taking into account available funds. If any loan applications are withdrawn, rejected, or delayed for a period of time that will not permit funding in the current funding cycle, the Agency will process, in rank order, the next loan application as funding levels permit, subject to the goals for geographic distribution of funds as described in section D of this Notice. The Agency reserves the right to offer the applicant less than the funding amount requested. Upon completion of the funding round, the Agency will notify applicants of their score, upon request.

J. Scoring Criteria

Application scoring will be based on information provided in the applications and in Agency records. A minimum score of 20 points for scoring criteria (1) and (2), along with meeting all other eligibility requirements, e, will be required for a project to receive funding. Meeting the minimum scoring requirements does not guarantee funding. Points will be awarded as follows:

(1) Development Team Experience (up to 15 points). Applicants should demonstrate their team's recent experience in successfully completing the rehabilitation of affordable MFH and/or FLH projects, as applicable, in a timely manner. If other funding sources are being sought, RHS will consider the applicant's experience with utilizing Federal financing programs, including timely project completion. A firm resume must be provided for all members of the applicant's ownership entity and the proposed management team, including the management agent. The description or firm resumes must include any rental housing projects facilities that the applicant team sponsored, owns, or operates. To score the highest number of points for this factor, applicants must describe significant previous experience in development, rehabilitation, and preservation of affordable housing projects. Points will be awarded as follows:

(a) Low level of development experience (5 points)

(b) Medium level of development experience (10 points)

(c) High level of development experience (15 points)

(2) Ownership and Management Capacity (10 points). Applicants should demonstrate that they have the experience and organizational resources to successfully own, operate and manage affordable MFH and/or FLH projects on a long-term basis. A firm resume must be provided for all members of the applicant's ownership entity and the proposed management team, including the management agent. Each resume must include FLH and affordable MFH ownership and management experience, as applicable. In addition, the resume should include a description of all similar projects that the applicant and Sponsors/Co-Sponsors have been involved with, to include whether they were Federal housing projects, and information regarding the success of the projects. Points will be awarded as follows:

(a) Inadequate owner and management experience (0 points)

(b) Acceptable owner and management experience (10 points)

(3) Disaster-Impacted Properties (5 points). Points may be awarded to projects that have been adversely impacted by the occurrence of a natural or man-made disaster that caused physical property damage or failure that is not fully reimbursable by property, casualty or liability insurance or any other form of third-party compensation, such as disaster loans and grants from other agencies. To qualify for points, properties must have outstanding repair and rehabilitation needs stemming from the natural or man-made disaster that have not been remedied due to inadequate insurance/third-party compensation.

(4) Projects with Existing MPR Debt Deferrals Expiring Prior to January 1, 2027 (5 points). Points are awarded to properties with an existing MPR debt deferral that is expiring prior to January 1, 2027. Documentation of the existing loan deferral(s) must be provided with the application.

(5) Projects Reaching Mortgage Maturity Prior to January 1, 2027 (5 points). Points are awarded if all Agency loans on the property have maturity dates prior to January 1, 2027. If the applicant is proposing a consolidation of two or more properties into a single project, all Agency loans on the consolidated project must have loan maturity dates prior to January 1, 2027, to receive points.

(6) Non-Selected Projects with a Complete Application Submitted for Section 515 Subsequent Loan Funding in FY2023 (5 points). Points are awarded to projects for which a complete application was submitted for an FY2023 Section 515 Subsequent Loan but the project was not selected for funding. Applicants must provide a copy of the letter from the Agency indicating that a complete application was received but the project was not selected for funding.

(7) Immediate Capital Needs for Health, Safety and Accessibility Repairs (up to 20 points). To receive points, applicants must submit a Capital Needs Assessment that includes documentation of the immediate health, safety and accessibility (H/S/A) repairs required for the property. Points will be awarded based on the percentage of project construction costs allocated for immediate H/S/A repairs and improvements. To receive points, applicants must clearly document the immediate H/S/A repairs and calculate the cost of those repairs as a percentage of the total project construction costs. Points will be awarded as follows:

(a) Immediate H/S/A repairs >40% of construction costs: 20 points

(b) Immediate H/S/A repairs 31-40% of construction costs: 15 points

(c) Immediate H/S/A repairs 21-30% of construction costs: 10 points

(d) Immediate H/S/A repairs 11-20% of construction costs: 5 points

(8) Energy Efficiency and Green Building (up to 5 points). Points will be awarded to applicants demonstrating through written narrative how the proposed repair project meets energy efficiency, pollution mitigation or clean energy goals through the following programs. Applicants must submit the corresponding checklist, registrations in programs, and commitments signed by the owner, the architect, applicable mechanical, electrical plumbing, and structural engineers, and other program-required green building professionals, energy modelers and raters as applicable to the programs selected for point consideration.

(a) Program participation (3 points). Applicants will receive points for participation in one of the following programs:

• EPA's Energy Star Multifamily Certification or Energy Star Next Gen (https://www.energystar.gov/partner_resources/residential_new/homes_prog_reqs/multifamily_national_page)

• DOE Zero Energy Ready Homes (https://www.energy.gov/eere/buildings/zero-energy-ready-homes)

• Earth Advantage (https://www.earthadvantage.org/)

• Earthcraft Gold or Platinum (https://earthcraft.org/programs/earthcraft-house/)

• Green Communities program by the Enterprise Community Partners (2020 Criteria, EGC + Zero Ready/Phius) (https://www.enterprisecommunity.org/solutions-and-innovation/green-communities)

• Greenpoint Gold or Platinum (https://www.greenpointrated.com/greenpoint-rated/)

• The National Green Building Standard (-GBS)—Multifamily and Mixed Use (four levels of base certification, plus *NGBS Green + NET ZERO ENERGY CERTIFICATION) (https://www.homeinnovation.com/services/certification/green_homes/multifamily_certification)

• International Living Future Institute (ILFI) Living Building Challenge (LBC 4.0—Core Building Certification, *Zero Energy, *Zero Carbon) (https://living-future.org/lbc/)

• LEED V4 Homes and Multifamily Midrise, or LEED BD+C: Homes and Multifamily Lowrise LEED BD+C: Multifamily Midrise (four levels of certification, plus *LEED Zero) (https://www.usgbc.org/resources/leed-v4-homes-and-multifamily-midrise-current-version)

• Passive House Institute US, Inc. (Phius Core, *Phius Zero) (https://multifamily.phius.org/service-category/phius-within-reach)

(b) Water Conservation (1 point). One point will be awarded for xeriscaping of site landscaping and/or water conservation in irrigation measures to include a recycled water (gray water or storm water) for landscape irrigation covering 50 percent or more of the property's site landscaping needs. To receive points, the architect or consulting landscape architect must illustrate in narrative, draft specifications, and schematic drawings how this will be achieved.

(c) Property Management Credentials (1 point). One point will be awarded if the designated property management company or individuals that will assume maintenance and operation responsibilities upon completion of construction work have a Credential for Green Property Management. Credentialing can be obtained from the National Apartment Association (NAA), National Affordable Housing Management Association, The Institute for Real Estate Management, U.S. Green Building Council Leadership in Energy and Environmental Design (USGBC LEED) for Operations and Maintenance, or another source with a certifiable credentialing program. To receive points, credentialing must be illustrated in the resume(s) of the property management team and included with the application.

All projects awarded scoring points for energy initiatives will be required to enroll the project in the EPA Portfolio Manager program and the associated EPA Water Score program to track post construction energy consumption data as well as water usage. More information about this program may be found at: https://www.energystar.gov/buildings/benchmark.

(9) Leveraging Other Funding Sources (up to 15 points). Points will be allocated for applications that leverage other funds based on the percentage of leveraged funds. . Leveraged funds are defined as non-Section 514/515/516/MPR funds, including third-party funds from equity, grants, loans and deferred developer fees. Points are calculated as follows:

(a) Leveraged funds/TDC is greater than 50%: 15 points

(b) Leveraged funds/TDC is 26-50%: 10 points

(c) Leveraged funds/TDC is 11-25%: 5 points

(10) Projects Providing Access to Supportive Services for Tenants (5 points). Points are awarded to projects that employ a Service Coordinator, documented as a project expense in the most recent agency-approved Form RD 3560-7 Multifamily Housing Project Budget/Utility Allowance, or include units designated as permanent supportive units or for homeless households, documented by an agreement with another Federal or State funding source. To receive points, the applicant must describe the basis for claiming points (i.e., service coordinator and/or permanent supportive housing/homeless unit set-aside) and provide documentation to include the Form 3560-7 and/or an agreement describing the terms and conditions for the units designated as permanent supportive housing or for homeless households, as applicable.

(11) Creating More and Better Markets: Assisting rural communities to recover economically through more and better market opportunities through improved infrastructure. (5 points). Applicants receive priority points if the project is located in or serving a rural community whose economic well-being ranks in the most distressed tier of the Distressed Communities Index. The Distressed Communities Index provides a score between 1-100 for every community at the zip code level. The most distressed tier of the index are those communities with a score over 80. Applicants should use the Distressed Communities Index Look-Up Map to determine if the project qualifies for priority points. Provide a copy of the map showing the project is eligible to claim points.

Note: U.S. Territories are considered distressed and qualify for priority points. For additional information on data sources used for this priority determination, please download the Data Sources for Rural Development Priorities document at the website: https://www.rd.usda.gov/media/file/download/rd-ic-prioritiesdatasupplementalupdatedfy2024.pdf. Additional information for priority points can be found on the following website: https://www.rd.usda.gov/priority-points.

(12) Advancing Racial Justice, Place-Based Equity, and Opportunity: Ensuring all rural residents have equitable access to RD programs and benefits from RD funded projects. (5 points). Applicants receive priority points if the project is located in or serving a community with a score of 0.75 or above on the Centers for Disease Control and Prevention (CDC) Social Vulnerability Index. Applicants should use Social Vulnerability Index Map look up map or list to determine if the project qualifies for points. Provide a copy of the map showing the project is eligible to claim points. Applications from Federally Recognized Tribes, including Tribal instrumentalities and entities that are wholly owned by Tribes will receive points. Federally Recognized Tribes are classified as any Indian or Alaska Native Tribe, band, nation, pueblo, village, or community as defined by the Federally Recognized Indian Tribe List Act (List Act) of 1994 (Pub. L. 103-454). Please refer to the Bureau of Indian Affairs for a listing of Federally Recognized Tribes at 89 FR 944 (January 8, 2024) (https://www.federalregister.gov/documents/2024/01/08/2024-00109/indian-entities-recognized-by-and-eligible-to-receive-services-from-the-united-states-bureau-of). Additionally, projects where at least 50% of the project beneficiaries are members of Federally Recognized Tribes, will receive points if applications from non-Tribal applicants include a Tribal Resolution of Consent from the Tribe or Tribes that the applicant is proposing to serve. Note: U.S. Territories are considered socially vulnerable and qualify for points.

An applicant would receive priority points if the project is an application from or benefiting a Rural Partner's Network's (RPN) community network. Currently RPN Networks exist in Alaska, Arizona, Georgia, Kentucky, Mississippi, Nevada, New Mexico, North Carolina, Puerto Rico, West Virginia, and Wisconsin. Use the Community Look-Up map available at www.rd.usda.gov/priority-points to determine if your project qualifies. Please provide a map or other documentation showing that the project is located in an RPN community network.

For additional information on data sources used for this priority determination, please download the Data Sources for Rural Development Priorities document at the website: https://www.rd.usda.gov/media/file/download/rd-ic-prioritiesdatasupplementalupdatedfy2024.pdf. Additional information for priority points can be found on the following website: https://www.rd.usda.gov/priority-points.

(13) Addressing Climate Change and Environmental Justice: Reducing climate pollution and increasing resilience to the impacts of climate change through economic support for rural communities (5 points). Applicants can receive points through one of the options listed below. A maximum of 5 points can be received even if the applicant meets the requirements for both options.

Option 1: Points will be awarded if the project is located in or serves a Disadvantaged Community as defined by the Climate and Economic Justice Screening Tool (CEJST), from the White House Council on Environmental Quality (CEQ). CEJST is a tool to help Federal agencies identify disadvantaged communities that will benefit from programs included in the Justice40 initiative. Census tracts are considered disadvantaged if they meet the thresholds for at least one of the CEJST's eight (8) categories of burden: Climate, Energy, Health, Housing, Legacy Pollution, Transportation, Water and Wastewater, or Workforce Development.

Option 2: Points will be awarded if the project is located in or serves an Energy Community as defined by the Inflation Reduction Act (IRA). The IRA defines energy communities as:

• A “brownfield site” (as defined in certain subparagraphs of the Comprehensive Environmental Response, Compensation, and Liability Act of 1980 (CERCLA)).

• A “metropolitan statistical area” or “non-metropolitan statistical area” that has (or had at any time after 2009).

• 0.17% or greater direct employment or 25% or greater local tax revenues related to the extraction, processing, transport, or storage of coal, oil, or natural gas, and has an unemployment rate at or above the national average unemployment rate for the previous year.

• A census tract (or directly adjoining census tract) in which a coal mine has closed after 1999, or in which a coal-fired electric generating unit has been retired after 2009.

To determine if your project qualifies for points under Option 1 or Option 2, please use the Disadvantaged Community & Energy Community Look-Up Map on the following website: https://www.rd.usda.gov/priority-points. Provide a copy of the map showing the project is eligible to claim points.

K. Federal Award Administration Information

1. Federal Award Notices

Successful applicants will receive notification by email for funding from the USDA Rural Development Office of Multifamily Housing. Applicants must comply with all applicable statutes and regulations before the award will be approved. Receipt of an award letter does not serve to authorize the applicant to commence performance under the award. Award letters will include conditions that must be met prior to award closing. Unsuccessful applications will receive notification by email, detailing why the application was unsuccessful.

2. Administrative and National Policy Requirements

There are no known unusual Administrative and National Policy Requirements associated with this program under this Notice.

3. Reporting

Performance reporting, including applicable forms, narratives, and other documentation, are to be completed and submitted in accordance with the provisions of 7 CFR 3560.308 and the Grant Agreement.

Borrowers must maintain separate financial records for the operation and maintenance of the project and for tenant services. Tenant services will not be funded by RHS. Funds allocated to the operation and maintenance of the project may not be used to supplement the cost of tenant services, nor may tenant service funds be used to supplement the project operation and maintenance. Detailed financial reports regarding tenant services will not be required unless specifically requested by RHS, and then only to the extent necessary for RHS and the borrower to discuss the affordability (and competitiveness) of the service provided to the tenant. The project audit, or verification of accounts on Form RD 3560-10, “Borrower Balance Sheet,” together with an accompanying Form RD 3560-7, “Multiple Family Housing Project Budget/Utility Allowance,” must allocate revenue and expenses between project operations and the tenant services component.

L. Federal Awarding Agency Contact(s)

For general questions about this announcement, please contact Jonathan D. Bell, Director, Processing and Report Review Branches, Production and Preservation Division, MFH, RD, USDA, via email: MFHprocessing1@usda.gov or telephone: (202) 205-9217.

M. Build America, Buy America

Funding to Non-Federal Entities: For-profit entities and other entities not included in the definition of Non-Federal Entities, defined pursuant to 2 CFR 200.1, are not subject to the Build America, Buy America Act (BABAA). The Infrastructure Investment and Jobs Act (IIJA) (Pub. L. 117-58), requires the following Buy America preference for the Multifamily Housing Revitalization Demonstration Program (MPR) (Assistance Listing 10.447) and the Section 515 Direct Loan program:

(a) All iron and steel used in the project are produced in the United States. This means all manufacturing processes, from the initial melting stage through the application of coatings, occurred in the United States.

(b) All manufactured products used in the project are produced in the United States. This means the manufactured product was manufactured in the United States, and the cost of the components of the manufactured product that are mined, produced, or manufactured in the United States is greater than 55 percent of the total cost of all components of the manufactured product, unless another standard for determining the minimum amount of domestic content of the manufactured product has been established under applicable law or regulation.

(c) All construction materials are manufactured in the United States. This means that all manufacturing processes for the construction material occurred in the United States.

Awards under this announcement for infrastructure projects to non-Federal entities, defined pursuant to 2 CFR 200.1 as any State, local government, Indian Tribe, Institution of Higher Education, or nonprofit organization, shall be governed by the requirements of Section 70914 of BABAA within the IIJA, and its implementing regulations. Infrastructure projects include structures, facilities, and equipment that generate, transport, and distribute fuel or energy, including electric vehicle (EV) charging stations. Infrastructure projects also include structures, facilities, and equipment for roads, highways, and bridges; public transportation; dams, ports, harbors, and other maritime facilities; intercity passenger and freight railroads; freight and intermodal facilities; airports; water systems, including drinking water and wastewater systems; electrical transmission facilities and systems; utilities; broadband infrastructure; and buildings and real property.

In accordance with BABAA, however, USDA has determined that de minimis, small grants, and minor components shall be waived from the requirements of BABAA, pursuant to a public interest waiver that was granted to the Department on September 13, 2022. Under such waiver, small grants below the Simplified Acquisition Threshold, which is currently set at $250,000 shall not be subject to BABAA. Additionally, de minimis and minor components, as described in the Department waiver, are also not subject to BABAA.

Applicants and projects that are subject to BABAA may request other specific waivers, pursuant to the requirements posted at the USDA Office of the Chief Financial Officer Office website: https://www.usda.gov/ocfo/federal-financial-assistance-policy/USDABuyAmericaWaiver.

N. Other Information

(a) Paperwork Reduction Act. In accordance with the Paperwork Reduction Act of 1995 (44 U.S.C. chapter 35), the information collection requirements associated with the programs, as covered in this Notice, have been approved by the Office of Management and Budget (OMB) under OMB Control Number 0570-0190.

(b) National Environmental Policy Act. All recipients under this Notice are subject to the requirements of 7 CFR part 1970.

(c) Federal Funding Accountability and Transparency Act. All applicants, in accordance with 2 CFR part 25 (https://www.ecfr.gov/current/title-2/part-25), must be registered in SAM and have a UEI number as stated in “GENERAL SECTION” of this Notice. All recipients of Federal financial assistance are required to report information about first-tier sub-awards and executive total compensation in accordance with 2 CFR part 170 (https://www.ecfr.gov/current/title-2/part-170).

(d) Debarment and Suspension. Applicants are not eligible if they have been debarred or suspended or otherwise excluded from, or ineligible for, participation in Federal assistance programs under 2 CFR parts 180 and 417. The Applicant will be required to comply with the requirement in 2 CFR 180.335.

(e) Civil Rights Act. All grants made under this Notice are subject to title VI of the Civil Rights Act of 1964 as required by the USDA (7 CFR part 15, subpart A, and section 504 of the Rehabilitation Act of 1973, title VIII of the Civil Rights Act of 1968, title IX, Executive Order 13166 (Limited English Proficiency), Executive Order 11246, and the Equal Credit Opportunity Act of 1974.

(f) Non-Discrimination Policy. In accordance with Federal civil rights laws and USDA civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office or the 711 Federal Relay Service.

To file a program discrimination complaint, a complainant should complete a Form AD-3027, USDA Program Discrimination Complaint Form, which can be obtained online at https://www.usda.gov/sites/default/files/documents/ad-3027.pdf, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: Program.Intake@usda.gov.

USDA is an equal opportunity provider, employer, and lender.

Yvonne Hsu,
Acting Administrator, Rural Housing Service.

[FR Doc. 2024-22177 Filed 9-24-24; 4:15 pm]

BILLING CODE 3410-XV-P